DEPARTMENT OF HEALTH AND HUMAN SERVICES

National Institutes of Health

Public Consultation on Personnel Reliability and Culture of Responsibility Issues

AGENCY: National Institutes of Health, HHS.

ACTION: Notice of Public Consultation on Guidance for Enhancing Personnel Reliability and Strengthening the Culture of Responsibility at the Local Level.

SUMMARY: The National Science Advisory Board for Biosecurity (NSABB), an advisory committee to the Federal Government, is hosting a public consultation to obtain input from the scientific community and general public regarding strategies for enhancing personnel reliability and strengthening the culture of responsibility at facilities that conduct research with dangerous pathogens. The discussion will inform NSABB deliberations and ultimately the development of an NSABB report on the topic.

Date and Time: The one day public consultation will be held on January 5, 2011 from 8:30 a.m.-6 p.m.

ADDRESSES: The public meeting will be held at the Bethesda Hyatt Regency, 7400 Wisconsin Avenue (One Bethesda Metro Center), Bethesda, MD 20814.

FOR FURTHER INFORMATION CONTACT: Ms. Ronna Hill, NIH Office of Biotechnology Activities, by e-mail at hillro@od.nih.gov or by telephone at 301-435-2137. Faxes may be sent to the NIH Office of Biotechnology Activities at 301-496-9839.

SUPPLEMENTARY INFORMATION:

Background

In light of heightened concerns about insider threats at facilities that conduct research with highly pathogenic agents, the NSABB was tasked with advising on ways to enhance personnel reliability among individuals with access to select agents. In its 2009 report, the NSABB recommended a number of ways to strengthen personnel reliability, including by enhancing the culture of responsibility that currently exists within the scientific community, particularly with respect to biosecurity and dual use research. The U.S. Government has asked the NSABB to expand on its general recommendations in this regard and to develop specific guidance that reflects broad input from the scientific community.

The NSABB is seeking input from the scientific community on practices that will strengthen personnel reliability and enhance the culture of responsibility regarding biosecurity. This input will inform NSABB deliberations on these topics and contribute to the development of guidance that is sound, effective, and feasible.

The meeting will be structured around five discussion panels: (1) Engaged institutional leadership for promoting biosecurity, personnel reliability, and a culture of responsibility; (2) Encouraging biosecurity awareness and promoting responsible conduct in the laboratory through communication, lab rapport, and a strong sense of team; (3) Peer reporting of concerning behaviors; (4) Addressing impediments to disclosure of negative information about job candidates; and (5) Assessment of effectiveness and impact of practices for strengthening personnel reliability and culture of responsibility. Each session will include ample time for input from meeting attendees. Specific discussion questions are noted on the meeting agenda, which can be accessed at http://www.biosecurityboard.gov.

The meeting is open to the public and is free of charge. Please note that this meeting will not be webcast. Pre-registration is encouraged to ensure that we can accommodate all attendees. Please pre-register at http://www.biosecurityboard.gov. Any individuals or organizations that cannot attend the meeting but wish to provide comments are encouraged to submit written comments to: nsabb@od.nih.gov.

More information about the NSABB is available at http://www.biosecurityboard.gov.

Dated: December 6, 2010.
Amy P. Patterson,
Acting Associate Director for Science Policy, NIH, National Institutes of Health.

[FR Doc. 2010-31056 Filed 12-9-10; 8:45 am]

BILLING CODE 4140-01-P